DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Customer Input—Patent and Trademark Customer Surveys.

Form Number(s): Form numbers will be determined as applicable for the various surveys.

Agency Approval Number: 0651-0038.

Type of Request: Reinstatement, with change, of a previously approved collection for which approval has expired.

Burden: 3,100 hours annually.

Number of Respondents: 8,100 responses per year.

Avg. Hours Per Response: Based on results from testing the various types of surveys with the representative customer groups and with internal test groups, the USPTO estimates that it takes the public 15 minutes to complete telephone surveys and face-to-face interviews, 5 minutes to complete questionnaires, customer surveys (both paper and electronic), and comment cards, and 2 hours to participate in focus groups. The USPTO estimates that it takes the public 30 minutes to complete the paper version of the annual patent and annual trademark customer satisfaction surveys, but only 20 minutes to complete the same survey electronically.

Needs and Uses: The public uses the various types of surveys to express their opinions about the services and information products offered by the USPTO and about the quality of the customer service that they receive from the USPTO. Additionally, these various surveys allow the public to offer their suggestions and comments concerning the USPTO, its services and information products, and its customer service. Depending on the type of survey, the public can provide their comments on the spot to the interviewer, or complete the survey at their own pace and either mail their responses to the USPTO or submit their responses electronically via a web-based survey. The USPTO uses the data collected from these surveys for strategic planning, the allocation of resources, the establishment of performance goals, and the verification and establishment of service standards. The USPTO also uses this data to assess customer satisfaction with USPTO products and services, assess customer priorities in service characteristics, and identify areas where service levels differ from customer expectations.

Affected Public: Individuals or households, business or other for-profit, and not-for-profit institutions.

Frequency: On occasion.

Respondent's Obligation: Voluntary.

OMB Desk Officer: David Rostker, (202) 395-3897.

Copies of the above information collection proposal can be obtained by calling or writing Susan K. Brown, Records Officer, Office of Data Architecture and Services, Data Administration Division, USPTO, Suite 310, 2231 Crystal Drive, Washington, DC 20231, by telephone at 703-308-7400, or by e-mail at susan.brown@uspto.gov.

Written comments and recommendations for the proposed information collection should be sent on or before April 14, 2003 to David Rostker, OMB Desk Officer, Room 10202, New Executive Office Building, Washington, DC 20503.

Dated: March 6, 2003.
Susan K. Brown,
Records Officer, USPTO, Office of Data Architecture and Services, Data Administration Division.

[FR Doc. 03-6049 Filed 3-12-03; 8:45 am]

BILLING CODE 3510-16-P